DEPARTMENT OF COMMERCE

National Institute of Standards and Technology

Notice of Availability of Draft Programmatic Environmental Assessment for Modernization and Internal Expansion of Existing Semiconductor Fabrication Facilities Under the CHIPS Incentives Program

AGENCY: National Institute of Standards and Technology, Department of Commerce.

ACTION: Notice; availability of a Draft Programmatic Environmental Assessment; extension of comment period.

SUMMARY: The National Institute of Standards and Technology (NIST) is extending the period for submitting comments on the Draft Programmatic Environmental Assessment (PEA) for the modernization and internal expansion of existing semiconductor fabrication facilities under the CHIPS Incentives Program. The original deadline for public comments was January 25, 2024. NIST is extending the deadline until February 9, 2024.

DATES: The comment period for the notice published December 27, 2023, at 88 FR 89372, is extended. Comments must be received on or before February 9, 2024. Comments received after January 25, 2024, and before publication of this notice are deemed to be timely. Those who have already submitted comments need not resubmit.

ADDRESSES: The PEA is available for download and review at https://www.nist.gov/chips/national-environmental-policy-act-nepa, under the heading “NEPA Public Involvement.”

You may submit comments on the PEA by the following methods:

Electronic Submission: Submit all electronic public comments via email to ChipsNEPA@chips.gov citing “Modernization PEA” in the subject line. NIST will accept comments in attached Word or PDF formats or within the body of the email.

By mail: Comments can also be mailed to the CHIPS Incentives Program at: Department of Commerce; HCHB Room 7419; ATTN: CPO Environmental Division; 1401 Constitution Ave NW, Washington, DC 20230.

Instructions: Comments sent by any other method, to any other address or individual, or received after the end of the comment period, may not be considered by NIST. All comments received are a part of the public record; commenters should not include personal identifying information (e.g., name, address, etc.), confidential business information, or otherwise sensitive information. NIST will accept anonymous comments. The most helpful comments include a specific recommendation, explain the reason for any recommended change, and provide supporting information. NIST will consider all relevant comments received on or before the closing date.

FOR FURTHER INFORMATION CONTACT: David Frenkel, NIST, telephone number 240-204-1960, email David.Frenkel@chips.gov.

SUPPLEMENTARY INFORMATION: In a Federal Register notice dated December 27, 2023 (88 FR 89372), NIST announced the availability of the Draft PEA for the modernization and internal expansion of existing semiconductor fabrication facilities under the CHIPS Incentives Program. NIST has prepared the draft PEA in accordance with the National Environmental Policy Act (NEPA, 42 U.S.C. 4321 et seq.) and the Council on Environmental Quality's (CEQ) NEPA implementing regulations (40 CFR parts 1500 through 1508). The PEA addresses financial assistance for the modernization or internal expansion of existing current-generation and mature-node commercial facilities within their existing footprint throughout the U.S.

The original deadline for public comments was January 25, 2024. NIST has received a request for an extension of the comment period due to the length and technical content of the document. NIST is therefore extending the deadline until February 9, 2024.

Authority: This notice is provided pursuant to NEPA and CEQ's NEPA implementing regulations (40 CFR 1506.6).

Tamiko Ford,
NIST Executive Secretariat.

[FR Doc. 2024-02042 Filed 1-31-24; 8:45 am]

BILLING CODE 3510-13-P